DEPARTMENT OF HEALTH AND HUMAN SERVICES

National Institutes of Health

Fogarty International Center; Amended Notice of Meeting

Notice is hereby given of a change in the meeting of the Fogarty International Center Advisory Board, September 16, 2003, 8:30 a.m. to September 16, 2003, 5 p.m., National Institutes of Health, Lawton Chiles International House, Bethesda, MD, 20892 which was published in the Federal Register on September 9, 2003, 68 FR 174.

The meeting will be held at the Natcher Bldg. Room E1-E2 45 Center Dr., Bethesda, MD 20892. The meeting is partially Closed to the public.

Dated: September 11, 2003.
LaVerne Y. Stringfield,
Director, Office of Federal Advisory Committee Policy.

[FR Doc. 03-23899 Filed 9-18-03; 8:45 am]

BILLING CODE 4140-01-M